DEPARTMENT OF THE INTERIOR

Bureau of Ocean Energy Management

[Docket No. BOEM-2025-0516]

Notice of Availability of the Proposed Notice of Sale for Gulf of America Outer Continental Shelf Oil and Gas One Big Beautiful Bill Act Lease Sale 2

AGENCY: Bureau of Ocean Energy Management, Interior.

ACTION: Notice of availability.

SUMMARY: The Bureau of Ocean Energy Management (BOEM) announces the availability of the Proposed Notice of Sale (NOS) for the Gulf of America (GOA) Outer Continental Shelf (OCS) Oil and Gas One Big Beautiful Bill Act (OBBBA) Lease Sale 2 (Lease Sale BBG2). BOEM is publishing this Notice pursuant to its regulatory authority under 30 CFR part 556. Pursuant to Section 19 of the OCS Lands Act, the Secretary of the Interior provides the Governors of affected States and the executive of any affected local government with the opportunity to review and comment on the Proposed NOS. The Proposed NOS describes the proposed size, timing, and location of the sale, including lease stipulations, terms and conditions, minimum bids, royalty rates, and rental rates which are required by Section 50102 of the OBBBA for this sale.

DATES: Comments received from the Governors and the executive of any affected local government on the size, timing, and location of this sale must be submitted to BOEM no later than January 20, 2026. BOEM will publish the Final NOS in the Federal Register at least 30 days prior to the date of bid opening. Bid opening is currently scheduled for March 11, 2026.

ADDRESSES: The Proposed NOS for Lease Sale BBG2 and Proposed NOS Package containing information essential to potential bidders may be obtained from the Gulf of America Region Public Affairs Office, Bureau of Ocean Energy Management, 1201 Elmwood Park Boulevard, New Orleans, Louisiana, 70123-2394; telephone: (504) 736-2519. The Proposed NOS and Proposed NOS Package also are available for downloading or viewing on BOEM's website at http://www.boem.gov/Sale-BBG2/.

FOR FURTHER INFORMATION CONTACT: Bridgette Duplantis, Section Supervisor, Leasing and Financial Responsibility, Office of Leasing and Plans, 504-736-7502, bridgette.duplantis@boem.gov or Benjamin Burnett, Division Manager, Leasing Policy and Management Division, Office of Strategic Resources, 703-787-1782, Benjamin.Burnett@boem.gov.

Authority: This sale will be held pursuant to the requirements of the OBBBA. This notice of sale is published pursuant to 43 U.S.C. 1331 et seq. (Outer Continental Shelf Lands Act, as amended) and 30 CFR 556.304.

Matthew N. Giacona,
Acting Director, Bureau of Ocean Energy Management.

[FR Doc. 2025-20447 Filed 11-19-25; 8:45 am]

BILLING CODE 4340-98-P